DEPARTMENT OF THE TREASURY

Customs Service

Relocation of Office of Regulations and Rulings

AGENCY: U.S. Customs Service, Department of the Treasury.

ACTION: Notice of change in office location.

SUMMARY: The Office of Regulations and Rulings of the U.S. Customs Service is relocating on or about June 7-10, 2002, from the Ronald Reagan Building and International Trade Center to the U.S. Mint Annex Building at 799 9th Street, NW, Washington, DC. All correspondence directed to the Office of Regulations and Rulings, including ruling requests and comments regarding pending Customs regulatory proposals, should continue to be sent to the Ronald Reagan Building and International Trade Center address. However, anyone wishing to view comments on regulatory projects will need to come to the new location. The phone numbers of the Office of Regulations and Rulings will also change. This document gives notice of the new location and phone numbers.

FOR FURTHER INFORMATION CONTACT: Joseph Clark, Regulations Branch (202-572-8768).

SUPPLEMENTARY INFORMATION:

Background

The Office of Regulations and Rulings (OR&R) of the U.S. Customs Service is relocating on or about June 7-10, 2002, from the Ronald Reagan Building and International Trade Center to the U.S. Mint Annex Building at 799 9th Street, NW, Washington, DC. Anyone wishing to send correspondence to the Office of Regulations and Rulings, including ruling requests and comments regarding pending Customs regulatory proposals, should continue to address the correspondence to: U.S. Customs Service, Office of Regulations and Rulings, 1300 Pennsylvania Avenue, NW, Washington, DC, 20229, with either the Regulations Branch or other appropriate branch name inserted into the address.

Viewing Comments

As of June 10, 2002, anyone wishing to view comments that were addressed to the Regulations Branch of Customs on a proposal published in the Federal Register should come to the new OR&R location specified in the preceding paragraph. It is highly recommended that, during the week of June 10, 2002, a person first call Joseph Clark at 202-572-8768 to schedule an appointment to view the comments.

Phone Numbers

The phone numbers for the Office of Regulations and Rulings as of June 8, 2002, are as follows:

Assistant Commissioner, OR&R—(202) 572-8700

Operational Oversight Division—(202) 572-8820

International Agreements Staff—(202) 572-8800

International Trade Compliance Division—(202) 572-8733

Regulations Branch—(202) 572-8760

Penalties Branch—(202) 572-8750

Entry Procedures and Carriers Branch—(202) 572-8730

Intellectual Property Rights Branch—(202) 572-8710

Value Branch—(202) 572-8740

Disclosure Law Branch—(202) 572-8720

Commercial Rulings Division—(202) 572-8830

Duty and Refund Determination Branch—(202) 572-8770

Textile Branch—(202) 572-8790

Special Classification and Marking Branch—(202) 572-8810

General Classification Branch—(202) 572-8780

Dated: June 5, 2002.
Sandra L. Bell,
Acting Assistant Commissioner, Office of Regulations and Rulings.

[FR Doc. 02-14462 Filed 6-7-02; 8:45 am]

BILLING CODE 4820-02-P